DEPARTMENT OF EDUCATION

Notice Inviting Suggestions for New Experiments for the Experimental Sites Initiative; Federal Student Financial Assistance Programs Under Title IV of the Higher Education Act of 1965, as Amended

AGENCY: Department of Education.

ACTION: Notice.

SUMMARY: The Secretary of Education invites institutions of higher education that participate in the student assistance programs authorized under Title IV of the Higher Education Act of 1965, as amended (the HEA), and other parties, to propose ideas for new institutionally based experiments designed to test alternative ways of administering the student financial assistance programs to be a part of the ongoing Experimental Sites Initiative (ESI). For this set of experiments, the Secretary seeks suggestions for creative experiments to test innovations that have the potential to increase quality and reduce costs in higher education, while maintaining or increasing the programmatic and fiscal integrity of the student financial assistance programs authorized by Title IV of the HEA (Title IV, HEA programs). The Secretary is particularly interested in experiments that will improve student persistence and academic success, result in shorter time to degree, and reduce student loan indebtedness.

Based on the suggestions submitted in response to this notice the Secretary will design experiments and corresponding evaluation plans. The Secretary will subsequently publish a second notice in the Federal Register to announce approved experiments, describe implementation and evaluation, and invite institutions to apply to participate in the experiments.

DATES: Suggestions for new experiments under the ESI must be submitted no later than January 31, 2014 in order to ensure their consideration.

ADDRESSES: Submissions must be made in the form of an attachment to an email sent to the following email address: experimentalsites@ed.gov.

Instructions for Submitting Suggestions: We recommend that suggestions be prepared in either a Microsoft Word or Adobe Acrobat document that is attached to an email sent to the email address provided in the ADDRESSES section of this notice. We ask that submitters include the name and address of the institution or entity that is submitting the suggestion and the name, title, mailing and email addresses, and telephone number of one contact person for the submission.

FOR FURTHER INFORMATION CONTACT: Warren Farr, U.S. Department of Education, Federal Student Aid. Email at: Warren.Farr@ed.gov or by telephone at (202) 377-4380.

If you use a telecommunications device for the deaf (TDD), call the Federal Relay Service (FRS), toll free, at 1-800-877-8339. Individuals with disabilities can obtain this document in an accessible format (e.g. braille, large print, audiotape, or computer diskette) by contacting Warren Farr.

SUPPLEMENTARY INFORMATION:

Background

This past August, President Obama outlined an ambitious new agenda to combat rising college costs and make college affordable for American families. One of the components of the President's plan is to remove barriers that stand in the way of competition and innovation in higher education, including barriers that prevent the use of new technologies or adoption of alternative approaches to teaching and learning. (For more information see: www.whitehouse.gov/the-press-office/2013/08/22/fact-sheet-president-s-plan-make-college-more-affordable-better-bargain-).

To support the President's agenda, the Secretary will use his statutory authority under section 487A(b) of the HEA to grant waivers from specific Title IV, HEA statutory or regulatory requirements to allow a limited number of postsecondary educational institutions to participate in experiments to test alternative methods for administering the Title IV, HEA programs. Such experiments are referred to in the HEA as “experimental sites.” ¹

¹ Currently there are approximately 120 postsecondary educational institutions participating in one or more of eight on-going experiments. Information about these experiments is available on our Web site at https://experimentalsites.ed.gov.

Consistent with section 487A(b) of the HEA, the Secretary generally cannot waive requirements related to need analysis, award rules (other than an award rule related to an experiment in modular or compressed schedules), and grant and loan maximum award amounts. However, the Secretary has the authority to approve experiments in a wide range of other areas. Through this effort, we expect to develop creative experiments that align with the President's plan to promote innovations that increase quality and reduce costs, while strengthening the programmatic and fiscal integrity of the Title IV, HEA programs.

While the Title IV, HEA programs help make a postsecondary education possible for millions of students, their costs to the American taxpayer are considerable. Accordingly, Congress and the Secretary have an interest in protecting the integrity of the programs, and they do so by establishing statutory and regulatory requirements. Many of these requirements are also designed to provide protections and safeguards to students and families, including by ensuring that they are fully informed of their rights and responsibilities as applicants and recipients of assistance from the Title IV, HEA programs and that they have the information needed to make informed decisions.

At this time, we seek the assistance of postsecondary educational institutions and other parties in identifying aspects of the Title IV, HEA programs for testing alternative approaches that could result in stronger academic or career outcomes for students, especially for students from low-income backgrounds and those who struggle to succeed academically. We also seek suggestions on evaluation plans that will allow for the measurement of the effectiveness of these alternative approaches.

We understand that the ability to construct rigorous experimental or evaluation designs is a specialized skill not expected of most financial aid professionals and others who may submit suggestions for experiments. Therefore, as described below, submissions do not need to fully detail the proposed experiment and corresponding evaluation plan.

This invitation for suggestions is a part of the Secretary's continuing effort to improve Title IV, HEA program effectiveness in partnership with the higher education community. We have benefited tremendously from the community's past contributions and look forward to working with the institutions that will participate in the ESI.

Invitation for Suggestions

Through this notice, we seek ideas from postsecondary educational institutions and other parties for innovative experiments that will improve postsecondary student outcomes while maintaining or improving Title IV, HEA program accountability. Institutions and others, including businesses, philanthropies, and State agencies and offices, are encouraged to collaborate in the development of proposals. We will consider the outcomes of the experiments when proposing changes to the Title IV, HEA program regulations or, if appropriate, in legislative proposals to the Congress.

We are particularly interested in experiments that are designed to improve student persistence and academic success, result in shorter time to degree, including by allowing students to advance through educational courses and programs at their own pace by demonstrating academic achievement, and reduce reliance on student loans. Subject to the statutory restrictions and limitations of the Secretary's experimental site authority noted above, examples of areas that could be considered for experiments include:

Allowing flexibility in how institutions provide Federal student aid to students enrolled in competency-based education programs where progress is measured on the basis of how much has been learned, rather than measures of time;

Allowing high school students to receive Federal student aid for enrollment in postsecondary coursework without a reduction in the amount of State and local support provided for such enrollment;

Allowing Federal student aid to be used to pay for assessments of prior learning and other processes to evaluate students' knowledge.

We will require institutions that participate in the experiments to provide data on the outcomes of the proposed alternatives. Further, experiments must not only measure the results of the alternative approach but also provide reasonable assessments of what would have happened under the existing requirements.

Submissions need not be longer than two or three pages and should address the following:

The specific statutory or regulatory requirement(s) relating to the Title IV, HEA programs that would be waived or modified to test the alternative approach.

A description of the recommended alternative approach, and how the proposed alternative approach avoids or minimizes challenges imposed by the existing requirements.

A description of how the experiment could be evaluated, including identifying outcome measures and ways to collect comparative data with respect to the current statutory or regulatory requirements that will be waived as a part of the experiment.

It is not necessary to submit fully developed experimental or evaluation plans.

Based on the submissions and our own input, and in collaboration with the submitting institution or other parties, we will develop the final experimental designs and evaluation plans for each experiment. We may also develop experiments in addition to those proposed in response to this request.

Accessible Format: Individuals with disabilities can obtain this document in an accessible format (e.g., braille, large print, audiotape, or compact disc) on request to the program contact person listed under FOR FURTHER INFORMATION CONTACT.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1094a(b).

Delegation of Authority: The Secretary of Education has delegated authority to Brenda Dann-Messier for the Office of Postsecondary Education, to perform the functions and duties of the Assistant Secretary for Postsecondary Education.

Dated: December 3, 2013.
Brenda Dann-Messier,
Acting Assistant Secretary for Postsecondary Education.

[FR Doc. 2013-29213 Filed 12-5-13; 8:45 am]

BILLING CODE 4000-01-P